ENVIRONMENTAL PROTECTION AGENCY

40 CFR Part 761

[EPA-HQ-RCRA-2008-0123; FRL-9108-1]

RIN 2050-AG42

Polychlorinated Biphenyls: Manufacturing (Import) Exemption for Veolia ES Technical Solutions, LLC

AGENCY: Environmental Protection Agency (EPA).

ACTION: Withdrawal of proposed rule.

SUMMARY: On November 14, 2006, Veolia ES Technical Solutions, LLC, (Veolia) submitted a rulemaking petition to the U.S. Environmental Protection Agency (EPA) requesting to import up to 20,000 tons of polychlorinated biphenyl (PCB) waste from Mexico for disposal at Veolia's TSCA-approved facility in Port Arthur, Texas. Based on the information available at that time, EPA proposed to grant Veolia's request in the proposed rule, Polychlorinated Biphenyls: Manufacturing (Import) Exemption for Veolia ES Technical Solutions, LLC. Since that time, Veolia submitted a request to withdraw its petition from the rulemaking process. Due to this request, EPA is withdrawing this proposed rule.

DATES: The proposed rule is withdrawn as of January 29, 2010.

FOR FURTHER INFORMATION CONTACT: William Noggle, Office of Resource Conservation and Recovery, Environmental Protection Agency, 1200 Pennsylvania Ave., NW., Washington, DC 20460-0001; telephone number: (703) 347-8769; e-mail address: noggle.william@epa.gov. Mail inquiries may be directed to the Office of Resource Conservation and Recovery (ORCR), (5304W), 1200 Pennsylvania Avenue, NW., Washington, DC 20460.

SUPPLEMENTARY INFORMATION: With certain exceptions, section 6(e)(3) of the Toxic Substances Control Act (TSCA) bans the manufacture, processing, and distribution in commerce of polychlorinated biphenyls (PCBs). Under TSCA section 3(7), “manufacture” is defined to include import into the Customs Territory of the United States. However, TSCA section 6(e)(3)(B) gives EPA the authority to grant petitions to perform these activities for a period of up to 12 months, provided EPA can make certain findings by rule. To issue such a rule, EPA must issue a proposed rule and provide the public an opportunity for an informal public hearing, if requested.

On November 14, 2006, Veolia submitted a rulemaking petition to EPA requesting to import up to 20,000 tons of PCB waste from various locations in Mexico for disposal at Veolia's TSCA-approved facility in Port Arthur, Texas. Based on the information available at that time, EPA proposed to grant Veolia's request in the proposed rule, Polychlorinated Biphenyls: Manufacturing (Import) Exemption for Veolia ES Technical Solutions, LLC, which was published in the Federal Register on March 6, 2008 (73 FR 12053). In addition to receiving written public comment, EPA held a public hearing on June 19, 2008, in Port Arthur, Texas, to receive additional written and oral comments and presentations regarding the proposed rule.

The details of the procedure for participating in the hearing pursuant to 40 CFR 750.18-750.21 are documented in the Federal Register notice for the hearing (73 FR 28786, May 19, 2008). In addition to all of the pre-registered speakers, EPA permitted any hearing attendee to state his or her comments and/or to make a presentation, if desired. EPA posted all the hearing presentations and the verbatim transcript of the hearing to the rulemaking docket. EPA also conducted post-hearing proceedings herein referred to as the “question and answer” process. The “question and answer” process was designed to allow the public to question the factual nature of material presented at the hearing. The process also granted the public two more opportunities to submit comments and/or questions to all hearing participants, including EPA. All the documents for the “question and answer” process are in the docket. These post-hearing proceedings were completed on October 18, 2009.

Subsequently, on November 17, 2009, Veolia submitted a request to withdraw its petition from the rulemaking process (docket entry EPA-HQ-RCRA-2008-0123-86). Due to this request, EPA is withdrawing this proposed rule. Withdrawing the proposed rule is the Agency's final action on this rulemaking. EPA will not issue a final rule on the proposal and will not respond further to comments that were filed for this rulemaking.

Lists of Subjects in 40 CFR Part 761

Environmental protection, Hazardous substances, Labeling, Polychlorinated biphenyls, Reporting and recordkeeping requirements.

Dated: January 22, 2010.
Mathy Stanislaus,
Assistant Administrator, Office of Solid Waste and Emergency Response.

[FR Doc. 2010-1943 Filed 1-28-10; 8:45 am]

BILLING CODE 6560-50-P